DEPARTMENT OF HOMELAND SECURITY

Coast Guard

33 CFR Part 117

[Docket No. USCG-2021-0336]

Drawbridge Operation Regulation; Fox River, Oshkosh, WI

AGENCY: Coast Guard, DHS.

ACTION: Notice of temporary deviation from regulations; request for comments.

SUMMARY: The Coast Guard has issued a temporary deviation from the operating schedule that governs the Main Street Bridge, mile 55.97, the Jackson Street Bridge, mile 56.22, the Wisconsin Street Bridge, mile 56.72, the Congress Avenue Bridge, mile 58.01, all over the Fox River at Oshkosh, Wisconsin. This deviation will test the remote operations at each bridge with a drawtender in attendance to supervise each remote opening. The Coast Guard is seeking comments from the public regarding these proposed changes.

DATES: This deviation is effective from midnight on June 30, 2021, through midnight on October 7, 2021. Comments and relate material must reach the Coast Guard on or before November 1, 2021.

ADDRESSES: You may submit comments identified by docket number USCG-2021-0336 using Federal eRulemaking Portal at https://www.regulations.gov.

See the “Public Participation and Request for Comments” portion of the SUPPLEMENTARY INFORMATION section below for instructions on submitting comments.

FOR FURTHER INFORMATION CONTACT: If you have questions on this test deviation, call or email: Mr. Lee D. Soule, Bridge Management Specialist, Ninth Coast Guard District; telephone 216-902-6085, email Lee.D.Soule@uscg.mil.

SUPPLEMENTARY INFORMATION: This portion of the Fox River at Oshkosh flows from Lake Butte Des Mortts to Lake Winnebago, passing through five bridges. The first four bridges are highway bridges: Main Street Bridge, mile 55.97, the Jackson Street Bridge, mile 56.22, the Wisconsin Street Bridge, mile 56.72, the Congress Avenue Bridge, mile 58.01, and the fifth bridge is a single leaf bascule bridge that has been operating remotely successfully for over one year. Because of the success at the railroad bridge, we are considering allowing the other four bridges to operate remotely. During the summer, one hundred recreational vessels pass through these bridges on a daily average.

I. Background, Purpose and Legal Basis

The Main Street Bridge, mile 55.97, provides a horizontal clearance of 89 feet and a vertical clearance 11 feet in the closed position, the Jackson Street Bridge, mile 56.22, provides a horizontal clearance of 97 feet and a vertical clearance 11 feet in the closed position, the Wisconsin Street Bridge, mile 56.72, provides a horizontal clearance of 75 feet and a vertical clearance 12 feet in the closed position, and the Congress Avenue Bridge, mile 58.01, provides a horizontal clearance of 75 feet and a vertical clearance 13 feet in the closed position. All of these bridges are over the Fox River and provide an unlimited clearance in the open position, and are governed by the regulations found in 33 CFR 117.1087.

The Wisconsin Department of Transportation has requested to test the capabilities of the remote operating system with live operators in the bridges and allow the public to comment on the bridge operations before any changes are made.

This deviation will not change the operation of the bridges. The Wisconsin Department of Transportation will provide weekly bridge opening data and approximate vehicle and pedestrian crossings at the end of the test deviation. Each bridge will have the ability to communicate by visual or audio means including enough cameras to see above and below the bridge, including night vision cameras to monitor approaching river traffic in adverse weather conditions.

The Coast Guard will also inform the users of the waterways through our Local Notice to Mariners when the comment period opens and how to leave comments.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned in this NPRM as being available in this docket and all public comments, will be in our online docket at https://www.regulations.gov and can be viewed by following that website's instructions. Additionally, if you go to the online docket and sign up for email alerts, you will be notified when comments are posted or a final rule is published.

M.J. Johnston,
Rear Admiral, U.S. Coast Guard, Commander, Ninth Coast Guard District.

[FR Doc. 2021-14184 Filed 7-2-21; 8:45 am]

BILLING CODE 9110-04-P